POSTAL SERVICE

39 CFR Part 111

Domestic Competitive Products Pricing and Mailing Standards Changes

AGENCY: Postal Service.

ACTION: Final rule.

SUMMARY: The Postal Service is amending Mailing Standards of the United States Postal Service, Domestic Mail Manual (DMM), to reflect changes to certain prices and mailing standards for competitive products.

DATES: Effective date: July 13, 2025.

FOR FURTHER INFORMATION CONTACT: Steven Jarboe at (202) 268-7690, Catherine Knox (202) 268-5636, or Garry Rodriguez at (202) 268-7281.

SUPPLEMENTARY INFORMATION: This final rule describes new prices and product features for competitive products, by class of mail, established by the Governors of the United States Postal Service. New prices are available under Docket Number CP2025-7 on the Postal Regulatory Commission PRC website at https://www.prc.gov, and on the Postal Explorer website at https://pe.usps.com.

The Postal Service is revising Mailing Standards of the United States Postal Service, Domestic Mail Manual (DMM) to reflect changes to certain prices and mailing standards for the following competitive products:

• Priority Mail Express.

• Priority Mail.

• USPS Ground Advantage.

• Parcel Select.

• Extra Services.

• Return Services.

• Mailer Services.

• Recipient Services.

• Other.

Competitive product prices and changes are identified by product as follows:

Priority Mail Express

Prices

Priority Mail Express prices will remain the same. Priority Mail Express will continue to offer zoned and Flat Rate, Retail and Commercial pricing.

Priority Mail

Prices

Overall, Priority Mail prices will increase 6.3 percent. Priority Mail will continue to offer zoned and Flat Rate, Retail and Commercial pricing.

Retail prices will increase an average of 7.3 percent. The Flat Rate Envelope will increase to $11.00; the Legal Flat Rate Envelope will increase to $11.20; and the Padded Flat Rate Envelope will increase to $11.95. The Small Flat Rate Box price will increase to $11.70, and the Medium Flat Rate Boxes will increase to $21.05. The Large Flat Rate Box will increase to $29.95 and the APO/FPO/DPO Large Flat Rate Box will increase to $28.70.

Commercial prices will increase an average of 5.1 percent.

USPS Ground Advantage

Prices

Overall, USPS Ground Advantage prices will increase 7.1 percent.

USPS Ground Advantage—Retail prices will increase 9.8 percent.

USPS Ground Advantage—Commercial prices will increase 4.7 percent.

USPS Ground Advantage—Commercial Sealed Against Inspection

The Postal Service is revising the basic eligibility standards for USPS Ground Advantage—Commercial, to be sealed against inspection. Additionally, except for restricted material as described in DMM section 601.8.0, USPS Ground Advantage—Commercial will now be eligible for any mailable item (e.g., PII).

These revisions will provide consistency with the basic eligibility standards for the USPS Ground Advantage—Retail and USPS Ground Advantage—Commercial products.

Parcel Select

Prices

The prices for Parcel Select Destination Entry will increase an average of 7.6 percent.

The prices for USPS Connect Local will increase 5.7 percent.

Discontinue Parcel Select Destination Network Distribution Center Entry Level

The Postal Service is discontinuing the Destination Network Distribution Center (DNDC) destination entry level for Parcel Select Destination Entry mailings. Parcel Select Destination Entry mailings must be sorted to a 5-digit scheme, 5-digit, SCF, or 3-digit (nonstandard only) for entry at the applicable DSCF/DRPDC, DHub, or DDU and DS&DC.

Extra Services

Adult Signature Service

Adult Signature Required and Adult Signature Restricted Delivery service prices will remain the same.

Return Services

USPS Returns Service

There are no structural changes to USPS Returns service.

Mailer Services

Pickup on Demand Service

The Pickup on Demand service fee will remain the same.

USPS Tracking Plus Service

The USPS Tracking Plus service prices will remain the same.

USPS Label Delivery Service

The USPS Label Delivery Service prices will remain the same.

Recipient Services

Post Office Box Service

The competitive Post Office Box service prices will remain the same.

Premium Forwarding Service

Premium Forwarding Service (PFS) prices will remain the same.

USPS Package Intercept

The USPS Package Intercept fee will remain the same.

Other

Address Enhancement Service

Address Enhancement Service competitive product prices will remain the same.

Package Quality Noncompliance Fee

The Package Quality Noncompliance Fee will remain the same.

Priority Mail Express Open and Distribute and Priority Mail Open and Distribute

The Postal Service is revising DMM section 705.18.0, Priority Mail Express Open and Distribute and Priority Mail Open and Distribute, to limit the use of sacks and eliminate hazardous materials.

Priority Mail Express Open and Distribute and Priority Mail Open and Distribute sacks will be limited to a 5-digit sortation for parcels only. The 5-digit open and distribute sacks may continue to be entered at all destination entry levels (e.g., SCF/RPDC, DDU and S&DC).

Priority Mail Express Open and Distribute and Priority Mail Open and Distribute is also being revised to eliminate hazardous material from being included in mail enclosed in a Priority Mail Express or Priority Mail, Open-and-Distribute container.

Nonstandard Fees

The Postal Service is revising the Nonstandard Fee structure to add a new component “Characteristics.” The new component will consist of parcels with characteristics that are considered to be nonstandard by the Postal Service (e.g., cylindrical tubes and rolls, wood or metal boxes).

The Postal Service is also revising the Nonstandard Fee assessment criteria. A parcel that is nonstandard by both, length (more than 22 inches or more than 30 inches) and by characteristics will only be subject to the highest fee. A parcel that is nonstandard by either length or characteristics, and by cube (more than 2 cubic feet) will continue to be subject to both the length or characteristics fee and the cube fee.

In addition, the Postal Service is requiring mailers with Shipping Services file manifests or other approved electronic documentation to include, when applicable, the extra service code (ESC) for the characteristics fee along with the current standard to include accurate dimensions (length, width, height) of all parcels that measure more than 22 inches in length or 18 inches in width or 15 inches in height. Mailers that do not meet the requirement to include the parcel's accurate dimensions and/or characteristics ESC will be assessed the Dimension Noncompliance fee.

Nonstandard Fees will continue to be applied to retail and commercial Priority Mail Express, Priority Mail, and USPS Ground Advantage, and Parcel Select Destination Entry and USPS Connect Local. However, in addition to the current Nonstandard Fee product exceptions, parcels mailed at the USPS Ground Advantage “Oversized”, Parcel Select Destination Entry “Oversized”, and USPS Connect Local “Oversized”, prices will not be subject to a Nonstandard Fee.

Resources

The Postal Service provides additional resources to assist customers with this price change for competitive products. These tools include price lists, downloadable price files, and Federal Register Notices, which may be found on the Postal Explorer website at https://pe.usps.com.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

100 Retail Mail Letters, Cards, Flats, and Parcels

* * * * *

110 Retail Mail Priority Mail Express

113 Prices and Eligibility

1.0 Prices and Fees

* * * * *

1.6 Nonstandard Fees

A Priority Mail Express piece is subject to the nonstandard fees (see Notice 123—Price List) as follows:

* * * * *

[Renumber item d as item f and add new items d and e to read as follows:]

d. A piece that contains any of the nonstandard characteristics listed under 201.7.6.2.

e. A piece that is subject to both a length (1.6a, 1.6b) and a characteristic (1.6d) nonstandard fee is only subject to the highest fee.

[Revise the text of renumbered item f to read as follows:]

f. A piece may be subject to both a length (1.6a, 1.6b) and a cube (1.6c) nonstandard fee, or a characteristic (1.6d) and a cube (1.6c) nonstandard fee.

* * * * *

120 Retail Mail Priority Mail

123 Prices and Eligibility

1.0 Prices and Fees

* * * * *

1.6 Nonstandard Fees

Except for Flat Rate packaging, a Priority Mail piece is subject to a nonstandard fee (see Notice 123—Price List) as follows:

* * * * *

[Renumber item d as item f and add new items d and e to read as follows:]

d. A piece that contains any of the nonstandard characteristics listed under 201.7.6.2.

e. A piece that is subject to both a length (1.6a, 1.6b) and a characteristic (1.6d) nonstandard fee is only subject to the highest fee.

[Revise the text of renumbered item f to read as follows:]

f. A piece may be subject to both a length (1.6a, 1.6b) and a cube (1.6c) nonstandard fee, or a characteristic (1.6d) and a cube (1.6c) nonstandard fee.

* * * * *

130 Retail Mail First-Class Mail and USPS Ground Advantage—Retail

133 Prices and Eligibility

1.0 Prices and Fees

* * * * *

1.8 Nonstandard Fees

[Revise the introductory text of 1.8 to read as follows:]

Except for oversized price parcels, a USPS Ground Advantage—Retail and USPS Ground Advantage—LOR piece is subject to a nonstandard fee (see Notice 123—Price List) as follows:

* * * * *

[Renumber item d as item f and add new items d and e to read as follows:]

d. A piece that contains any of the nonstandard characteristics listed under 201.7.6.2.

e. A piece that is subject to both a length (1.8a, 1.8b) and a characteristic (1.8d) nonstandard fee is only subject to the highest fee.

[Revise the text of renumbered item f to read as follows:]

f. A piece may be subject to both a length (1.8a, 1.8b) and a cube (1.8c) nonstandard fee, or a characteristic (1.8d) and a cube (1.8c) nonstandard fee.

* * * * *

200 Commercial Letters, Cards, Flats, and Parcels

* * * * *

204 Barcode Standards

* * * * *

3.0 Standards for Barcoded Tray Labels, Sack Labels, and Container Labels

* * * * *

3.2.4 3-Digit Content Identifier Numbers

* * * * *

Exhibit 3.2.4 3-Digit Content Identifier Numbers

CLASS AND MAILING CIN HUMAN-READABLE CONTENT LINE

* * * * *

Parcel Select

Parcel Select Machinable Parcels

* * * * *

[Delete the “ASF sacks” and “NDC sacks” line entries in their entireties.]

* * * * *

[Revise the heading of “Combined Package Services, Parcel Select, and USPS Marketing Machinable Parcels” to read as follows:]

Combined Package Services and USPS Marketing Machinable Parcels

* * * * *

210 Commercial Mail Priority Mail Express

213 Prices and Eligibility

1.0 Prices and Fees

* * * * *

1.8 Nonstandard Fees

Except for Priority Mail Express Return service, a Priority Mail Express piece is subject to a nonstandard fee (see Notice 123—Price List) as follows:

* * * * *

[Renumber items d through f as items f through h and add new items d and e to read as follows:]

d. A piece that contains any of the nonstandard characteristics listed under 201.7.6.2.

e. A piece that is subject to both a length (1.8a, 1.8b) and a characteristic (1.8d) nonstandard fee is only subject to the highest fee.

[Revise the text of renumbered items f through h to read as follows:]

f. A piece may be subject to both a length (1.8a, 1.8b) and a cube (1.8c) nonstandard fee, or a characteristic (1.8d) and a cube (1.8c) nonstandard fee.

g. Shipping Services file manifests or other approved electronic documentation must include the accurate dimensions (length, width, height) of all parcels that exceed 22 inches in length or 18 inches in width or 15 inches in height, and the extra service code (ESC) for the characteristics category (see 201.7.6.2).

h. Mailers of parcels exceeding 22 inches in length or 18 inches in width or 15 inches in height, and/or require the characteristics extra service code (ESC) and have a Shipping Services file manifest or other approved electronic documentation, that do not meet the requirement to include the parcel's accurate dimensions or ESC will be assessed the Dimension Noncompliance fee under 1.9.

1.9 Dimension Noncompliance Fee

[Revise the text of 1.9 to read as follows:]

Mailers of Priority Mail Express parcels required to include the parcel's dimensions (length, width, height) and/or characteristics ESC in the Shipping Services file manifest or other approved electronic documentation as provided under 1.4.3 and 1.8 will be charged the Dimension Noncompliance fee (see Notice 123—Price List) if the parcel's dimensions and/or ESC are omitted or inaccurate in the Shipping Services file manifest or other approved electronic documentation. A parcel is subject to only one Dimension Noncompliance fee charge.

* * * * *

220 Commercial Mail Priority Mail

223 Prices and Eligibility

1.0 Prices and Fees

* * * * *

1.10 Nonstandard Fees

Except for Flat Rate and Priority Mail Return service packages, a Priority Mail parcel is subject to a nonstandard fee (see Notice 123—Price List) as follows:

* * * * *

[Renumber items d through f as items f through h and add new items d and e to read as follows:]

d. A piece that contains any of the nonstandard characteristics listed under 201.7.6.2.

e. A piece that is subject to both a length (1.10a, 1.10b) and a characteristic (1.10d) nonstandard fee is only subject to the highest fee.

[Revise the text of renumbered items f through h to read as follows:]

f. A piece may be subject to both a length (1.10a, 1.10b) and a cube (1.10c) nonstandard fee, or a characteristic (1.10d) and a cube (1.10c) nonstandard fee.

g. Shipping Services file manifests or other approved electronic documentation must include the accurate dimensions (length, width, height) of all parcels that exceed 22 inches in length or 18 inches in width or 15 inches in height, and the extra service code (ESC) for the characteristics category (see 201.7.6.2).

h. Mailers of parcels exceeding 22 inches in length or 18 inches in width or 15 inches in height, and/or require the characteristics extra service code (ESC) and have a Shipping Services file manifest or other approved electronic documentation that do not meet the requirement to include the parcel's accurate dimensions or ESC will be assessed the Dimension Noncompliance fee under 1.11.

1.11 Dimension Noncompliance Fee

[Revise the text of 1.11 to read as follows:]

Mailers of Priority Mail parcels required to include the parcel's dimensions (length, width, height) and/or characteristics ESC in the Shipping Services file manifest or other approved electronic documentation as provided under 1.4.3 or 1.10 will be charged the Dimension Noncompliance fee (see Notice 123—Price List) if the parcel's dimensions and/or ESC are omitted or inaccurate in the Shipping Services file manifest or other approved documentation. A parcel is subject to only one Dimension Noncompliance fee charge.

* * * * *

250 Commercial Mail Parcel Select

253 Prices and Eligibility

1.0 Prices and Fees

* * * * *

1.1.2 Price Categories

Parcel Select mail price categories are as follows:

[Revise the text of item a to read as follows:]

a. Destination entry, including destination entry sectional center facility (DSCF), destination hub (DHub), and destination entry delivery unit (DDU).

* * * * *

1.7 Nonstandard Fees

[Revise the introductory text of 1.7 to read as follows:]

Except for oversized priced parcels, a Parcel Select Destination Entry or USPS Connect Local piece is subject to a nonstandard fee (see Notice 123-Price List) as follows:

* * * * *

[Renumber items d through f as items f through h and add new items d and e to read as follows:]

d. A piece that contains any of the nonstandard characteristics listed under 201.7.6.2.

e. A piece that is subject to both a length (1.7a, 1.7b) and a characteristic (1.7d) nonstandard fee is only subject to the highest fee.

[Revise the text of renumbered items f through h to read as follows:]

f. A piece may be subject to both a length (1.7a, 1.7b) and a cube (1.7c) nonstandard fee or a characteristic (1.7d) and a cube (1.7c) nonstandard fee.

g. Shipping Services file manifests or other approved electronic documentation must include the accurate dimensions (length, width, height) of all parcels that exceed 22 inches in length or 18 inches in width or 15 inches in height, and the extra service code (ESC) for the characteristics category (see 201.7.6.2).

h. Mailers of parcels exceeding 22 inches in length or 18 inches in width or 15 inches in height, and/or require the characteristics extra service code (ESC) and have a Shipping Services file manifest or other approved electronic documentation, that do not meet the requirement to include the parcel's accurate dimensions or ESC will be assessed the Dimension Noncompliance fee under 1.8.

1.8 Dimension Noncompliance Fee

[Revise the text of 1.8 to read as follows:]

Mailers of Parcel Select parcels required to include the parcel's dimensions (length, width, height) and/or characteristics ESC in the Shipping Services file manifest or other approved electronic documentation as provided under 1.2.3 or 1.7 will be charged the Dimension Noncompliance fee (see Notice 123—Price List) if the parcel's dimensions and/or ESC are omitted or inaccurate in the Shipping Services file manifest or other approved electronic documentation. A parcel is subject to only one Dimension Noncompliance fee charge.

* * * * *

4.0 Price Eligibility for Parcel Select

4.1 Destination Entry Price Eligibility

4.1.1 Definition

[Revise the introductory text of 4.1.1 to read as follows:]

Parcel Select destination entry prices apply to Parcel Select mailings prepared as specified in 705.8.0, and 255.4.0, and addressed for delivery within the service area of a sectional center facility/regional processing and distribution center, or delivery unit or sorting and delivery center where the mailer deposited them. For this standard, the following destination facility definitions apply:

[Delete item a and renumber items b through d as items a through c.]

* * * * *

4.1.2 Basic Standards

For Parcel Select destination entry, pieces must meet the applicable standards in 255.4.0 and the following criteria:

* * * * *

[Revise the text of item d to read as follows:]

d. Pieces must be deposited at, or expedited to, via Priority Mail Express Open and Distribute or Priority Mail Open and Distribute under 705.18.0, a destination SCF, or destination delivery unit, as applicable for the price claimed.

* * * * *

[Delete 4.1.3, DNDC Prices, in its entirety and renumber 4.1.4 as 4.1.3.]

* * * * *

254 Postage Payment and Documentation

1.0 Basic Standards for Postage Payment

1.1 Postage Payment Options

1.1.1 Parcel Select Destination Entry

Parcel Select destination entry may be paid as follows:

* * * * *

[Revise the first sentence of item c to read as follows:]

c. Except for plant-verified drop shipments (see 705.17.0), USPS Ship shipments (see 705.2.9), and metered mail drop shipments (see 705.19.0), the mailer must have a meter license or permit imprint authorization at the destination facility parent Post Office for mailings deposited for entry at a DSCF/DRPDC, or at the parent Post Office of a DDU or DS&DC. * * *

* * * * *

1.2 NDC/RPDC as Agent

[Revise the introductory text of 1.2 to read as follows:]

An NDC/RPDC may verify and accept mail if authorized by PS Form 4410, Authorization for NDC Acceptance, to act as an agent for the parent Post Office where the mailer`s account, or license is held (see Exhibit 1.2).

* * * * *

2.0 Mailing Documentation

* * * * *

2.2 Other Documentation

[Revise the first sentence of 2.2 to read as follows:]

When presented for acceptance, documentation of postage by entry office and presort level (e.g., by 5-digit ZIP Code for DSCF and DDU prices) is required under 705.2.0 through 705.4.0. * * *

* * * * *

255 Mail Preparation

1.0 General Information for Mail Preparation

* * * * *

1.4 Terms for Presort Level

Terms used for presort levels are defined as follows:

* * * * *

[Delete item d in its entirety.]

1.5 Preparation Definitions and Instructions

For purposes of preparing mail:

* * * * *

[Revise the introductory text of item f to read as follows:]

f. Entry [facility] (or origin [facility]) refers to the USPS mail-processing facility (e.g., “entry SCF/RPDC”) that serves the Post Office where the mailer entered the mail. If the Post Office where the mail is entered does not serve the mailer's location (e.g., for plant-verified drop shipment), the Post Office of entry determines the entry facility. Entry SCF/RPDC includes both single-3-digit and multi-3-digit SCFs/RPDCs.

[Delete items f1 and f2 in their entirety.]

* * * * *

[Revise the last sentence of item h to read as follows:]

h. * * * Pieces on overflow pallets qualify for the DSCF rates.

* * * * *

4.0 Preparing Destination Entry Parcel Select

* * * * *

[Delete 4.4, Preparing Destination NDC (DNDC)/Regional Processing and Distribution Center (DRPDC) Parcel Select, in its entirety.]

[Delete 5.0, Preparing Machinable Parcels, in its entirety and renumber 6.0 as 5.0.]

* * * * *

256 Enter and Deposit

* * * * *

2.0 Deposit

2.1 Bedloaded Parcels

[Revise the text of 2.1 to read as follows:]

DDU or DS&DC mailings may be bedloaded for deposit at DDUs or DS&DCs. Refer to the Drop Shipment Product available at the USPS FAST website: https://fast.usps.com to determine dock requirements for a DDU or DS&DC facility. If applicable, the mail to be entered at different destinations must be separated to prevent mixing of mailings for deposit at different destinations.

2.2 Containers

[Revise the introductory text of 2.2 to read as follows:]

DDU or DS&DC mailings (if not bedloaded), and all DHub, and DSCF/DRPDC mailings must be prepared as follows:

[Revise the text of item a to read as follows:]

a. Machinable parcels for which a DSCF, DHub, or DDU price is claimed must be sacked under 255.4.0, or prepared on pallets under 705.8.0.

[Delete item b and renumber items c through g as items b through f.]

* * * * *

2.3 Mailer Transport

[Revise the text of 2.3 to read as follows:]

The mailer must transport the PVDS mailing from the place where it was verified to the destination postal facility (e.g., SCF/RPDC, or delivery unit), appropriate to the mailing and the price claimed.

* * * * *

2.5 Mail Separation and Presentation of Destination Entry Mailings

* * * Mailers presenting destination entry mailings to the Postal Service must meet the following requirements:

[Revise the first sentence of item a to read as follows:]

a. Mark each DSCF/DRPDC, DHub, or DDU or DS&DC Parcel Select piece as “Parcel Select,” according to 202.3.7.2. * * *

* * * * *

2.6 NDC/RPDC as Agent

[Revise the text of 2.6 to read as follows:]

An NDC/RPDC may verify and accept mail if authorized by Form 4410 to act as agent for the parent Post Office where the mailer`s account or license is held.

2.7 Appointments

Appointments must be made for destination entry mail as follows:

a. Except as provided under 2.7b or for a local mailer and mailings of perishable commodities (601.8.0) under 2.8, the following apply:

[Revise the text of item a1 to read as follows:]

1. Appointments for deposit of destination-entry mail at SCFs/RPDCs must be scheduled through the appropriate drop-shipment appointment control center at least one business day in advance, through the appropriate district control center.

[Delete item a2 and renumber items a3 through a6 as items a2 through a5.]

* * * * *

2.8 Exception to Scheduling Standard

Exceptions are as follows:

[Revise the last sentence of item a to read as follows:]

a. * * * Under this exception, the mailer may claim the DSCF prices for mailings or portions of such mailings deposited at the local Post Office if the local Post Office is the designated SCF/RPDC that meets the application standards.

* * * * *

2.9 Redirection by USPS

[Revise the text of 2.9 to read as follows:]

A mailer may be directed to transport destination-entry mailings to a facility other than the designated DDU or DS&DC, or SCF/RPDC, due to facility restrictions, building expansions, peak-season mail volumes, or emergency constraints.

* * * * *

2.11 Deposit Conditions

Deposit of mail also is subject to these conditions:

[Revise the first sentence of item a to read as follows:]

a. Destination facilities may refuse mailings that are unscheduled or late (i.e., if vehicles arrive more than 2 hours after the scheduled appointment at SCFs/RPDCs, or DHubs, and more than 20 minutes late at delivery units or S&DCs). * * *

* * * * *

2.13 Vehicle Unloading

Unloading of destination entry mailings is subject to these conditions:

[Revise the first sentence of item a to read as follows:]

a. USPS unloads properly prepared containerized loads (e.g., pallets) at SCFs/RPDCs, and Hubs. * * *

[Revise the first sentence of item b to read as follows:]

b. The driver must unload bedloaded shipments within 8 hours of arrival at SCFs/RPDCs, and Hubs. * * *

* * * * *

[Delete 2.17 and 2.18 in their entireties:]

* * * * *

280 Commercial Mail USPS Ground Advantage—Commercial

283 Prices and Eligibility

1.0 Prices and Fees

* * * * *

1.7 Nonstandard Fees

[Revise the introductory text of 1.7 to read as follows:]

Except for oversized priced parcels and USPS Ground Return service parcels, a USPS Ground Advantage—Commercial piece is subject to a nonstandard fee (see Notice 123—Price List) as follows:

* * * * *

[Renumber items d through f as items f through h and add new items d and e to read as follows:]

d. A piece that contains any of the nonstandard characteristics listed under 201.7.6.2.

e. A piece that is subject to both a length (1.7a, 1.7b) and a characteristic (1.7d) nonstandard fee is only subject to the highest fee.

[Revise the text of renumbered items f through h to read as follows:]

f. A piece may be subject to both a length (1.7a, 1.7b) and a cube (1.7c) nonstandard fee, or a characteristic (1.7d) and a cube (1.7c) nonstandard fee.

g. Shipping Services file manifests or other approved electronic documentation must include the accurate dimensions (length, width, height) of all parcels that exceed 22 inches in length or 18 inches in width or 15 inches in height, and the extra service code (ESC) for the characteristics category (see 201.7.6.2).

h. Mailers of parcels exceeding 22 inches in length or 18 inches in width or 15 inches in height, and/or require the characteristics extra service code (ESC) and have a Shipping Services file manifest or other approved electronic documentation, that do not meet the requirement to include the parcel's accurate dimensions or ESC will be assessed the Dimension Noncompliance fee under 1.8.

1.8 Dimension Noncompliance Fee

[Revise the text of 1.8 to read as follows:]

Mailers of USPS Ground Advantage—Commercial parcels required to include the parcel's dimensions (length, width, height) and/or characteristics ESC in the Shipping Services file manifest or other approved electronic documentation as provided under 1.4.3 or 1.7 will be charged the Dimension Noncompliance fee (see Notice 123—Price List) if the parcel's dimensions and/or ESC are omitted or inaccurate in the Shipping Services file manifest or other approved electronic documentation. A parcel is subject to only one Dimension Noncompliance fee charge.

* * * * *

2.0 Content Standards for USPS Ground Advantage—Commercial Parcels

[Delete 2.1 and 2.2 in their entirety and add text under 2.0 to read as follows:]

With the exception of restricted material as described in 601.8.0, any mailable item may be mailed as USPS Ground Advantage—Commercial.

3.0 Basic Eligibility Standards for USPS Ground Advantage—Commercial

* * * * *

3.2 Defining Characteristics

3.2.1 Inspection of Contents

[Revise the text of 3.2.1 to read as follows:]

USPS Ground Advantage—Commercial parcels are sealed against Postal Service inspection.

* * * * *

700 Special Standards

* * * * *

705 Advanced Preparation and Special Postage Payment Systems

* * * * *

6.0 Combining Mailings of USPS Marketing Mail, Package Services, and Parcel Select Parcels

* * * * *

6.2 Combining Parcels—DNDC/RPDC Entry

* * * * *

6.2 Combining Parcels—DNDC/RPDC Entry

6.2.1 General

[Revise the text of 6.2.1 to read as follows:]

Mailers may combine USPS Marketing Mail machinable parcels, and USPS Marketing Mail Marketing parcels weighing 6 or more ounces, with Package Services machinable parcels for entry at an NDC/RPDC when authorized by USPS under 6.1.4.

6.2.2 Eligible Prices

[Revise the text of 6.2.2 to read as follows:]

Combined parcels may be eligible for USPS Marketing Mail, single-piece and Presorted Media Mail, single-piece and Presorted Library Mail, Bound Printed Matter DNDC/DRPDC, and Nonpresorted and Presorted Bound Printed Matter prices. Mailers may not combine Carrier Route Bound Printed Matter with other parcels.

6.2.3 Additional Standards

[Revise the introductory text of 6.2.3 to read as follows:]

USPS Marketing Mail Nonprofit machinable priced parcels, Marketing Parcels (3.5 ounces or more), and Package Services machinable parcels prepared for DNDC/DRPDC entry must meet the following conditions in addition to the basic standards in 6.1:

* * * * *

6.4 Combining Package Services, Parcel Select, and USPS Marketing Mail—Optional 3-Digit SCF/RPDC Entry

* * * * *

[Revise the text of item c to read as follows:]

c. Bound Printed Matter parcels are eligible for the applicable DNDC entry price.

* * * * *

7.0 Combining Package Services and Parcel Select Parcels for Destination Entry

* * * * *

7.2 Combining Parcel Select and Package Services Machinable Parcels for DNDC/DRPDC Entry

7.2.1 Qualification

[Revise the first and second sentence of 7.2.1 to read as follows:]

Mailers may combine Package Services machinable parcels for entry at an NDC/RPDC when USPS-authorized under 7.5. These parcels may be eligible for single-piece and Presorted Media Mail, single-piece and Presorted Library Mail, Bound Printed Matter DNDC, and single-piece and Presorted Bound Printed Matter prices. ***

7.2.2 Basic Standards

Parcel Select and Package Services parcels must meet the following conditions:

* * * * *

[Delete item c and renumber items d through i as items c through h.]

* * * * *

[Revise the first sentence of renumbered item e to read as follows:]

e. Minimum volume requirements for Presorted Bound Printed Matter, Presorted Library Mail, and Presorted Media Mail must be met separately and are based solely on the quantity of pieces eligible for each price at the required presort level. * * *

* * * * *

7.2.4 Pallet Presort and Labeling

[Revise the third sentence of 7.2.4 to read as follows:]

* * * Destination entry price eligibility applies only to Bound Printed Matter (see 266.3.0). * * *

* * * * *

8.0 Preparing Pallets

* * * * *

8.5 General Preparation

* * * * *

8.5.2 Required Preparation

The following standards apply to Periodicals, USPS Marketing Mail, Parcel Select, and Package Services, except Parcel Select mailed at DSCF and DDU prices:

* * * * *

[Revise the first sentence of item b to read as follows:]

b. For bundles of flat-size mailpieces or bundles of nonstandard parcels on pallets, after preparing all possible pallets under 8.5.2a, when 250 or more pounds of bundles remain for an ADC/RPDC (Periodicals) or for an NDC/ASF/RPDC (USPS Marketing Mail, and Package Services), mailers must prepare the ADC/RPDC or NDC/ASF/RPDC pallet, as applicable for the class of mail. * * *

* * * * *

8.5.3 Minimum Load

The following minimum load standards apply to mail prepared on pallets:

[Revise the introductory text of item a to read as follows:]

a. For Periodicals, USPS Marketing Mail, and Package Services (see 8.5.3b for Parcel Select mailed at DSCF and DDU prices):

* * * * *

18.0 Priority Mail Express Open and Distribute and Priority Mail Open and Distribute

* * * * *

18.2 Basic Standards

* * * * *

18.2.2 Content Standards

* * * Additional standards for the enclosed mail are as follows:

* * * * *

[Revise the text of item d to read as follows:]

d. Mail enclosed in a Priority Mail Express or Priority Mail Open-and-Distribute container may not contain hazardous materials.

* * * * *

18.5 Preparation

18.5.1 Containers for Expedited Transport

Acceptable containers for expedited transport are as follows:

[Revise the text of items a and b to read as follows:]

a. A Priority Mail Express Open and Distribute shipment must be contained in a USPS-approved sack (5-digit parcels only) using the applicable tag in 18.5.3a or in a USPS-provided Priority Mail Express Open and Distribute tray box (Tags are not required for tray boxes; only the 4x6 address label should be applied), except as provided in 18.5.1c and 18.5.1d.

b. A Priority Mail Open and Distribute shipment must be contained in either a USPS-approved sack (5-digit parcels only) using the applicable tag in 18.5.3b or a USPS-provided Priority Mail Open and Distribute tray box (Tags are not required for tray boxes, only the 4x6 address label should be applied), except as provided in 18.5.1c and 18.5.1d.

* * * * *

21.0 Optional Combined Parcel Mailings

* * * * *

21.2 Price Eligibility

* * * * *

[Revise the text of item e to read as follows:]

e. Parcel Select prices are based on the destination entry for pieces in 5-digit, 3-digit, or SCF/RPDC, containers.

* * * * *

Index

* * * * *

N

* * * * *

Network Distribution Center (NDC)/Regional Processing & Distribution Center (RPDC) Acceptance

* * * * *

[Delete the “Parcel Select” line item.]

* * * * *

Notice 123 (Price List)

[Revise competitive prices as applicable.]

* * * * *

Helen E. Vecchione,
Attorney, Ethics and Legal Compliance.

[FR Doc. 2025-08939 Filed 5-19-25; 8:45 am]

BILLING CODE 7710-12-P